DEPARTMENT OF THE INTERIOR

National Park Service

National Register of Historic Places; Notification of Pending Nominations

Nominations for the following properties being considered for listing in the National Register were received by the National Park Service before December 8, 2001. Pursuant to section 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW, Suite 400, Washington DC 20002; or by fax, 202-343-1836. Written or faxed comments should be submitted by January 11, 2002.

Carol D. Shull,
Keeper of the National Register Of Historic Places.

California

Los Angeles County

McCarty Memorial Christian Church, 4101 W. Adams Blvd., Los Angeles, 01001456

Orange County

Cogged Stone Site—CA-ORA-83, Address Restricted, Huntington Beach, 01001455

San Diego County

El Cortez Apartment Hotel, 702 Ash St., San Diego, 01001458

Santa Barbara County

Goleta Depot, 300 N. Los Carneros Rd., Goleta, 01001457

Shasta County

Cascade Theatre, 1731 Market St., Redding, 01001459

Illinois

Piatt County

South Charter Street Historic District, Roughly bounded by Marion and South Market St.s, Sage Dr., and South State St., Monticello, 01001464

St. Clair County

Spivey Building, 417 Missouri Ave., East St. Louis, 01001462

Iowa

Jones County

St. Luke's Methodist Church, 211 N. Sycamore, Monticello, 01001461

Marshall County

Marshalltown Downtown Historic District, Roughly bounded by 2nd St., State St., 3rd. Ave., and E. Church St., Marshalltown, 01001463

Polk County

Seth Richards Commercial Block, 300-310 Court Ave., Des Moines, 01001460

Louisiana

Caddo Parish Star Cemetery, off 2100 blk of Texas Ave., Shreveport, 01001478

Massachusetts

Berkshire County

Main Street Historic District, 1-57 Main St., 1-2 Pine St., 2 Sergeant St., Stockbridge, 01001466

Middlesex County

Graniteville Historic District, Broadway, Church, Cross, First, Fourth, N. Main, River School, Second, and Third Sts., Westford, 01001467

Norfolk County

Dwight—Derby House, 7 Frairy St., Medfield, 01001465

Mississippi

Yazoo County

Bull Homestead, 13836 MS 16 E, Benton, 01001479

New Mexico

Chaves County

Downtown Roswell Historic District (Boundary Increase), (Roswell New Mexico MRA) Roughly bounded by 8th and 10th Sts., Richardson and Kentucky Aves., Roswell, 01001469

Santa Fe County

New Mexico Supreme Court Building, (New Deal in New Mexico MPS) 237 Don Gaspar Ave., Santa Fe, 01001468

Union County

Eklund Hotel, 15 Main St., Clayton, 01001470

Texas

Galveston County

Denver Court Historic District, Roughly bounded by Aves. S1/2 and U1/2, 43rd and 52nd Sts., Galveston, 01001471

Tarrant County

Central Handley Historic District, Roughly bounded by E. Lancaster Ave., Forest Ave., Kerr St., and Handley Dr., Fort Worth, 01001472

Vermont

Caledonia County

New Discovery State Park, (Religious Buildings, Sites and Structures in Vermont MPS) 4239 VT 232, Peacham, 01001475

Windham County

Bellows Galls Neighborhood Historic District, Atkinson, Westminster, School, Hapgood Sts, Hapgood Pl., Burt St., Henry St., South St., Hadley St., Temple Pl., Rockingham, 01001477

Washington

San Juan County

Tharald Homestead, Hoffman Cove Rd., Shaw Island, 01001473

Wisconsin

Dane County

Stoughton High School, 211 N. Forrest St., Stoughton, 01001476

Trempealeau County

Independence City Hall, 23688 Adams St., Independence, 01001474

A Request for REMOVAL has been made for the following resources:

Iowa

Buchanan County

Otterville Bridge (Highway Bridges of Iowa MPS) Bordner Dam Rd., over Wapisipinicon R. Independence vicinity 9800759

Pennsylvania

Bedford County

Grand View Point Hotel (Lincoln Highway Heritage Corridor Historic Resources MPS) US 30, 17 mi. W of Bedford, Juniata Twnshp Bedford vicinity, 97000219

[FR Doc. 01-31768 Filed 12-26-01; 8:45 am]

BILLING CODE 4310-70-P